DEPARTMENT OF HEALTH AND HUMAN SERVICES

Food and Drug Administration

21 CFR Part 15

[Docket Nos. FDA-2005-P-0196 and FDA-2007-0545] (formerly Docket No. 2005P-0450)

Salt and Sodium; Petition to Revise the Regulatory Status of Salt and Establish Food Labeling Requirements Regarding Salt and Sodium; Public Hearing; Reopening of the Comment Period

AGENCY: Food and Drug Administration, HHS.

ACTION: Notice of public hearing; reopening of the comment period.

SUMMARY: The Food and Drug Administration (FDA) is reopening until August 11, 2008, the comment period for the notice of public hearing, published in the Federal Register of October 23, 2007 (72 FR 59973), requesting comments regarding FDA's current framework of policies regarding salt and sodium and potential future approaches, including approaches described in a citizen petition. The agency is taking this action in response to a request for an extension to allow interested persons additional time to submit comments. FDA is also reopening the comment period to update comments and to receive any new information.

DATES: Submit written or electronic comments by August 11, 2008. The administrative record of the hearing will remain open until August 11, 2008.

ADDRESSES: You may submit comments, identified by Docket Nos. FDA-2005-P-0196 and FDA-2007-0545 (formerly Docket No. 2005P-0450), by any of the following methods:

Electronic Submissions

Submit electronic comments in the following way:

• Federal eRulemaking Portal: http://www.regulations.gov. Follow the instructions for submitting comments.

Written Submissions

Submit written submissions in the following ways:

• FAX: 301-827-6870.

• Mail/Hand delivery/Courier [For paper, disk, or CD-ROM submissions]: Division of Dockets Management (HFA-305), Food and Drug Administration, 5630 Fishers Lane, rm. 1061, Rockville, MD 20852.

To ensure more timely processing of comments, FDA is no longer accepting comments submitted to the agency by e-mail. FDA encourages you to continue to submit electronic comments by using the Federal eRulemaking Portal, as described previously, in the ADDRESSES portion of this document under Electronic Submissions.

Instructions: All submissions received must include the agency name and Docket No(s). for this rulemaking. All comments received may be posted without change to http://www.regulations.gov, including any personal information provided. For additional information on submitting comments, see the “Comments” heading of the SUPPLEMENTARY INFORMATION section of this document.

Docket: For access to the docket to read background documents or comments received, go to http://www.regulations.gov and insert the docket number(s), found in brackets in the heading of this document, into the “Search” box and follow the prompts and/or go to the Division of Dockets Management, 5630 Fishers Lane, rm. 1061, Rockville, MD 20852.

FOR FURTHER INFORMATION CONTACT: Juanita Yates, Center for Food Safety and Applied Nutrition (HFS-555), Food and Drug Administration, 5100 Paint Branch Pkwy., College Park, MD 20740, 301-436-1731, FAX: 301-436-2964.

SUPPLEMENTARY INFORMATION:

I. Background

In the Federal Register of October 23, 2007 (72 FR 59973), FDA published a notice of public hearing requesting comments on FDA's current regulatory framework of policies regarding salt and sodium and future approaches, including approaches described in a citizen petition submitted by the Center for Science in the Public Interest. Specifically, FDA sought comments on the issues and questions presented in section III of the notice. (See 72 FR 59973 at 59976.)

Interested persons were originally given until March 28, 2008, to comment on issues related to salt and sodium.

II. Request for Comments

Following publication of the October 30, 2007, notice of public hearing, FDA received a request for a 60-day extension of the comment period. The request conveyed concern that the FDA Division of Dockets Management Web site transition to the Federal Docket Management System (FDMS) on January 15, 2008, delayed the public presentation of relevant material in the docket and thus did not allow sufficient time to develop a meaningful or thoughtful response to the request for comments on the issues and questions presented in section III of the notice.

FDA has considered the request and is reopening the comment period for the notice of public hearing, for 60 days, until August 11, 2008. The agency believes that reopening the comment period for 60 days allows adequate time for interested persons to submit comments on the issues and questions presented in section III of the notice without significantly delaying the agency's consideration of issues related to salt and sodium.

III. How to Submit Comments

Interested persons may submit to the Division of Dockets Management (see ADDRESSES) written or electronic comments regarding this document. Submit a single copy of electronic comments to http://www.regulations.gov or two paper copies of any mailed comments, except that individuals may submit one paper copy. Comments are to be identified with the docket number found in brackets in the heading of this document. Received comments may be seen in the Division of Dockets Management between 9 a.m. and 4 p.m., Monday through Friday.

Please note that on January 15, 2008, the FDA Division of Dockets Management Web site transitioned to the Federal Dockets Management System (FDMS). FDMS is a Government-wide, electronic docket management system. Electronic comments or submissions will be accepted by FDA only through FDMS at http://www.regulations.gov.

Dated: June 3, 2008.
Jeffrey Shuren,
Associate Commissioner for Policy and Planning.

[FR Doc. E8-13122 Filed 6-10-08; 8:45 am]

BILLING CODE 4160-01-S